DEPARTMENT OF HOUSING AND URBAN DEVELOPMENT

[Docket No. FR-4907-N-19]

Notice of Proposed Information Collection: Comment Request; Insurance for Home Equity Conversion Mortgages/Residential Loan Application for Reverse Mortgages; and Home Equity Conversion Mortgage (HECM) Program; Insurance for Mortgages to Refinance Existing HECMs (FR-4667); HECM Consumer Protection Measures Against Excessive Fees; and HECM anti-Churning Disclosure

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject proposal.

DATES: Comments Due Date: August 9, 2004.

ADDRESSES: Interested persons are invited to submit comments regarding this proposal. Comments should refer to the proposal by name and/or OMB Control Number and should be sent to: Wayne Eddins, Reports Management Officer, Department of Housing and Urban Development, 451 7th Street, SW., L'Enfant Plaza Building, Room 8202, Washington, DC 20410.

FOR FURTHER INFORMATION CONTACT: Vance T. Morris, Director, Office of Single Family Program Development, Single Family Housing, Department of Housing and Urban Development, 451 7th Street, SW., Washington, DC 20410, telephone (202) 708-2121 (this is not a toll free number) for copies of the proposed forms and other available information.

SUPPLEMENTARY INFORMATION: The Department is submitting the proposed information collection to OMB for review, as required by the Paperwork Reduction Act of 1995 (44 U.S.C. chapter 35, as amended).

This notice is soliciting comments from members of the public and affected agencies concerning the proposed collection of information to: (1) Evaluate whether the proposed collection is necessary for the proper performance of the functions of the agency, including whether the information will have practical utility; (2) evaluate the accuracy of the agency's estimate of the burden of the propose collection of information; (3) enhance the quality, utility, and clarity of the information to be collected; and (4) minimize the burden of the collection of information on those who are to respond; including the use of appropriate automated collection techniques or other forms of information technology, e.g., permitting electronic submission of responses.

This notice also lists the following information:

Title of Proposal: Insurance for Home Equity Conversion Mortgages/Residential Loan Application for Reverse Mortgages; and Home Equity Conversion Mortgage (HECM) Program; Insurance for Mortgages to Refinance Existing HECMs (FR-4667); HECM Consumer Protection Measures Against Excessive Fees; and HECM Anti-Churning Disclosure.

OMB Control Number, if applicable: 2502-0524.

Description of the need for the information and proposed use: The documents requested are used to determine the eligibility of a loan application for FHA's mortgage insurance. Without these documents, HUD would have difficulty in determining the eligibility of a loan application and, thus, put in jeopardy the insurance fund. For the Insurance for Mortgage to Refinance Existing HECMs, control number 2502-0546 and HECM Consumer Protection Measures Against Excessive Fees, OMB control number 2502-0534, which is being replaced with this PRA package, please see the following language:

The Insurance for Mortgages to Refinance Existing HECMs, Section 255(k) of the National Housing Act establishes a “Disclosure” requirement, which is designed to ensure that homeowners are made aware of the costs associated with HECM refinancing. This regulator provision would require that the lender provide the mortgagor, a good faith estimate of: (a) Total cost of the refinancing; and (b) Increase in the mortgagor's principal limit as measured by the estimated initial principal limit on the mortgage to be insured less the current principal limit on the HECM that is being refinanced.

To assure that the homeowner is not obtaining a HECM mortgage under an obligation to pay excess fees for services, the lender must establish that the mortgagor will not have incurred such outstanding or unpaid obligations in connection with the mortgage; and that the initial payment from the HECM will not be used to pay to or on behalf of an estate planning service firm. At closing, the lender must assure that the homeowner has received full disclosure of all costs of obtaining the mortgage, including asking the mortgagor about any costs or other obligations that the mortgagor has incurred to obtain the mortgage, and confirm that the mortgagor will not use any part of the amount disbursed for payments to or on behalf of an estate planning firm.

Agency form numbers, if applicable: FNMA 1009 and HUD Form 92901.

Estimation of the total numbers of hours needed to prepare the information collection including number of respondents, frequency of response, and hours of response: Total hours for collecting information on an annual basis equals—

Number of respondents | Frequency of respondents | Hours of response | Burden hours | Hourly rate | Total cost
Residential Application
17,000 | 1 | 1.0 | 17,000 | $15.00 | $255,000
Refinance
17,000 | 1 | .5 | 8,500 | $25.00 | $212,000
Consumer Measures Against Excessive Fees Disclosure
Number of Disclosures
17,000 | 1 | .10 | 17,000 |  |
Counselor Information
17,000 | 2 | .25 | 8,500 |  |
Anti-Churning Disclosure
Disclosure to Mortgagor
17,000 | 1 | .25 | 4,250 |  |
|  |  | 14,450 | $12.00 | $173,400
Grand Total |  |  | 39,950 |  | $640,900

The $12,000 hourly rate reflects the cost paid to counselors for providing counseling services to the mortgagor regarding the fees associated with applying for the HECM program and refinancing existing HECM loans. The counselors are required to inquire of the mortgagor if have been contacted by an estate planning service firm and paying a fee at or after closing.

The 34,000 Counselor Information Respondents represents the number of potential applicants that will be counseled.

The $25 and $15 hourly rate is paid to mortgagees who are required to process the Residential Loan and Refinance Applications.

Status of the proposed information collection: Reinstatement of a currently approved collection OMB Control No. (2502-0524) and termination of OMB Control No. (2502-0546) and OMB Control No. (2502-0534).

Authority: The Paperwork Reduction Act of 1995, 44 U.S.C., chapter 35, as amended.

Dated: May 4, 2004
Sean G. Cassidy,
General Deputy Assistant Secretary for Housing-Deputy Federal Housing Commissioner.

[FR Doc. 04-12850 Filed 6-7-04; 8:45 am]

BILLING CODE 4210-27-M